DEPARTMENT OF ENERGY

Federal Energy Regulatory Commission

[Project No. 12020-000 Illinois]

Marseilles Hydro Power LLC; Notice of Rejection of Notices of Intent To File Competing Applications and Waiver of Section 4.36

December 11, 2001.

Pursuant to the notice of acceptance of application for the Marseilles Hydroelectric Project, issued August 16, 2001 by the Federal Energy Regulatory Commission (Commission), the following filings have been received: (1) Marseilles Land and Water Company (MLWC) September 18, 2001 filing for waiver of the requirements of § 4.36 of the Commission's regulations establishing deadlines for the filing of applications with an initial preliminary permit application; and (2) the three October 15, 2001 notices of intent to file competing development applications filed by MLWC, Fountainhead Properties LLC, and City of Oglesby, Illinois, respectively.

Background

On May 14, 2001, Marseilles Hydro Power LLC (MHP) filed its application for license for the Marseilles Hydroelectric Project, FERC No. 12020, pursuant to the notice of intent it had filed in response to the Commission's notice of filing of an application for preliminary permit, FERC Project No. 11863, by MLWC. The Commission issued a public notice that MHP's application for license for Project No. 12020 had been accepted for filing on August 16, 2001. The above mentioned subsequent filings were filed with the Commission.

Commission Conclusions

The Commission has previously addressed the situation of when an application for license may be filed in competition with an initial permit application.¹ The Commission has clearly specified that license applications filed in competition with an initial permit application are to be filed in response to the notice of the initial preliminary permit application, not subsequent notices of a competing license application as claimed by MLWC.

¹ Order No. 413, FERC Stats. & Regs. Preambles 1982-1985, section 30,632 (March 20, 1985); and Tropicana, 65 FERC section 61,904 (1993).

Therefore, the Commission rejects the pleadings of (1) MLWC's filing for waiver of the requirements of § 4.36; and (2) the three October 15, 2001 notices of intent to file competing development applications filed by MLWC, Fountainhead Properties LLC, and City of Oglesby, Illinois, respectively.

This notice constitutes final agency action. Requests for rehearing by the Commission may be filed within 30 days of the date of this issuance of this notice, pursuant to 18 CFR 385.713.

Linwood A. Watson, Jr.,
Acting Secretary.

[FR Doc. 01-31089 Filed 12-17-01; 8:45 am]

BILLING CODE 6717-01-P